DEPARTMENT OF ENERGY

Federal Energy Regulatory Commission

[Docket No. RP04-13-000]

Maritimes & Northeast Pipeline, L.L.C.; Notice of Tariff Filing

October 7, 2003.

Take notice that on October 1, 2003, Maritimes & Northeast Pipeline, L.L.C. (Maritimes) tendered for filing as part of its FERC Gas Tariff, First Revised Volume No. 1, the following tariff sheets reflecting an effective date of November 1, 2003: Second Revised Sheet No. 4; First Revised Sheet No. 5.

Maritimes states that it is filing these tariff sheets to amend its Preliminary Statement and System Map to provide an updated description of the Maritimes' system once its Phase III mainline extension facilities are placed into service.

Maritimes states that copies of its filing have been mailed to all affected customers of Maritimes and interested state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: October 14, 2003.

Linda Mitry,
Acting Secretary.

[FR Doc. 03-26063 Filed 10-14-03; 8:45 am]

BILLING CODE 6717-01-P